DEPARTMENT OF HEALTH AND HUMAN SERVICES

National Institutes of Health

National Institute of Mental Health; Notice of Meeting

Pursuant to section 10(a) of the Federal Advisory Committee Act, as amended (5 U.S.C. Appendix 2), notice is hereby given of a meeting of the Interagency Autism Coordinating Committee.

The meeting will be open to the public, with attendance limited to space available. Individuals who plan to attend and need special assistance, such as sign language interpretation or other reasonable accommodations, should inform the Contact Person listed below in advance of the meeting.

Name of Committee: Interagency Autism Coordinating Committee (IACC).

Date: November 30, 2007.

Time: 9 a.m. to 4 p.m.

Agenda: Introduction of members, discussion of strategic plan for Autism Spectrum Disorder research, and presentations.

Place: Ronald Reagan Building and International Trade Center, Rotunda, North Tower, 8th Floor, 1300 Pennsylvania Avenue, NW., Washington, DC 20004, Phone: 202-312-1300.

Contact Person: Takea Herbert, Interagency Autism Coordinating Committee, National Institute of Mental Health, NIH, 6001 Executive Boulevard, Room 6187, MSC 9669, Bethesda, MD 20892-9669, (301) 443-7153, herbertta@mail.nih.gov.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

In the interest of security, all guests and vehicles are screened upon entry into the underground parking garage at the Ronald Reagan Building. Please allow extra time for this process.

A registration form and information about the meeting is available on this IACC Web site: https://www.infinityconferences.com/InfiniBase/Registration/Reg.aspx?ptguid=1ed5d757-748f-4e23-9fd7-a00b765bf1c9.

(Catalogue of Federal Domestic Assistance Program Nos. 93.242, Mental Health Research Grants; 93.281, Scientist Development Award, Scientist Development Award for Clinicians, and Research Scientist Award; 93.282, Mental Health National Research Service Awards for Research Training, National Institutes of Health, HHS).

Dated: October 22, 2007.
Jennifer Spaeth,
Director, Office of Federal Advisory Committee Policy.

[FR Doc. 07-5314 Filed 10-25-07; 8:45 am]

BILLING CODE 4140-01-M